DEPARTMENT OF ENERGY

Proposed Agency Information Collection Extension

AGENCY: U.S. Department of Energy.

ACTION: Notice and request for comments on submission of information collection request for approval from the Office of Management and Budget (OMB).

SUMMARY: The Department of Energy (DOE), pursuant to the Paperwork Reduction Act of 1995, has submitted an information collection request to the OMB for approval of a reinstatement and extension of the lapsed OMB approval for three years. Comments are invited on: Whether the extended collection of information is necessary for the proper performance of the functions of the agency; the accuracy of the agency's estimate of the burden of the proposed collection of information, including the validity of the methodology and assumptions used; ways to enhance the quality, utility, and clarity of the information to be collected; and ways to minimize the burden of the collection of information on respondents, including through the use of automated collection techniques or other forms of information technology.

DATES: Comments regarding this proposed information collection must be received on or before November 26, 2018. If you anticipate difficulty in submitting comments within that period, contact the person listed in ADDRESSES as soon as possible.

ADDRESSES: Written comments should be sent to the following address: DOE Desk Officer, Office of Information and Regulatory Affairs, Office of Management and Budget, New Executive Office Building, Room 10102, 735 17th Street NW, Washington, DC 20503.

FOR FURTHER INFORMATION CONTACT: Requests for additional information or copies of the information collection instrument and instructions should be directed to Andrea Lachenmayr, LPO.PaperworkReductionAct.Comments@hq.doe.gov, (202) 586-3399.

SUPPLEMENTARY INFORMATION: This information collection request contains: (1) OMB No.: 1910-5137 (2) Information Collection Request Title: Application for Loans under the Advanced Technology Vehicles Manufacturing Incentive Program; (3) Type of Request: Extension; (4) Purpose: This information collection package covers collection of information necessary to evaluate applications for loans submitted under Section 136 of the Energy Independence and Security Act of 2007, as amended (EISA) (42 U.S.C. 17013). Applications for loans submitted to DOE under Section 136 of EISA must contain certain information. This information will be used to analyze whether a project is eligible for a loan and to evaluate the application under criteria specified in the interim final regulations implementing Section 136 of EISA, located at 10 CFR part 611. The collection of this information is critical to ensure that the government has sufficient information to determine whether applicants meet the eligibility requirements to qualify for a DOE loan and to provide DOE with sufficient information to evaluate an applicant's project using the criteria specified in 10 CFR part 611; (5) Annual Estimated Number of Respondents: 7 Applications; (6) Annual Estimated Number of Total Responses: It is estimated that the total number of annual responses will not exceed 7; (7) Annual Estimated Number of Burden Hours: 910 hours, most of which is likely to be time committed by firms that seek debt and/or equity financing for their projects, regardless of their intent to apply for a DOE loan; (8) Annual Estimated Reporting and Recordkeeping Cost Burden: It is estimated that the annual estimated reporting and recordkeeping cost burden for applicants will not exceed $26,296 per annum, per applicant.

Authority: Section 136 of the EISA authorizes the collection of information.

Signed in Washington, DC, on October 18, 2018.
John Sneed,
Executive Director, Department of Energy Loan Programs Office.

[FR Doc. 2018-23457 Filed 10-25-18; 8:45 am]

BILLING CODE 6450-01-P